NATIONAL ARCHIVES AND RECORDS ADMINISTRATION

Office of Government Information Services (OGIS)

[NARA 2018-041]

Freedom of Information Act Advisory Committee

AGENCY: National Archives and Records Administration.

ACTION: Charter Renewal of the Freedom of Information Act Advisory Committee.

SUMMARY: The National Archives and Records Administration (NARA) has renewed the Freedom of Information Act (FOIA) Advisory Committee charter. The FOIA Advisory Committee is a Federal advisory committee established in accordance with section 9(a)(2) of the Federal Advisory Committee Act to advise NARA's Office of Government Information Services (OGIS) on improvements to the FOIA and to study the current FOIA landscape across the executive branch.

DATES: The charter will be applicable for two years from May 20, 2018, unless otherwise extended.

FOR FURTHER INFORMATION CONTACT: Amy Bennett by phone at 202-741-5782, by mail at National Archives and Records Administration; Office of Government Information Services, 8601 Adelphi Road, College Park, MD 20740-6001, or by email at foia-advisory-committee@nara.gov.

Patrice Little Murray,
Alternate Committee Management Officer.

[FR Doc. 2018-12580 Filed 6-11-18; 8:45 am]

BILLING CODE 7515-01-P